DEPARTMENT OF THE INTERIOR

National Park Service

Announcement of Subsistence Resource Commission Meeting

AGENCY: National Park Service, Interior.

ACTION: Announcement of Subsistence Resource Commission meeting.

SUMMARY: In accordance with the Federal Advisory Committee Act (Pub. L. 92-463, 86 Stat. 770, 5 U.S.C. App. 1, section 10), notice is hereby given that the National Park Service will hold a public meeting of the Denali National Park Subsistence Resource Commission. The following agenda items will be discussed:

(1) Call to Order (Chairman).

(2) Roll Call: Confirmation of Quorum.

(3) Introduction of guests.

(4) Review Agenda.

(5) Review and approval of minutes from the last meeting.

(6) Superintendent's welcome and review of the Commission purpose.

(7) Commission membership status.

(8) Public and other agency comments.

(9) Old Business:

a. Denali Backcountry Management Plan Status Report.

b. Review comment on draft hunting plan recommendations.

(10) New Business:

a. October 2001 Chairs Workshop Report.

b. Federal Subsistence Board Report.

1. Review Wildlife Proposals.

2. Review Fisheries Proposals.

(11) Public and other agency comments.

(12) Subsistence Resource Commission Work Session.

(13) Set time and place of next Subsistence Resource Commission meeting.

(14) Adjourn meeting.

DATES: The meeting will begin at 9 a.m. on Friday, February 22, 2002 and conclude at approximately 5 p.m. The meeting will adjourn earlier if the agenda items are completed.

LOCATION: The Meeting will be held at the Cantwell Community Hall, Cantwell, Alaska, Telephone (907) 768-2122.

FOR FURTHER INFORMATION CONTACT: Hollis Twitchell, Subsistence Manager, Denali National Park and Preserve, P.O. Box 9 Denali Park, Alaska, 99755. Phone (907) 456-0595.

SUPPLEMENTARY INFORMATION: The Subsistence Resource Commissions are authorized under Title VIII, section 808, of the Alaska National Interest Lands Conservation Act, Public Law 96-487 and operate in accordance with the provisions of the Federal Advisory Committees Act.

In light of a recent attempt to relocate National Park Service administrative personnel and offices in Washington, DC, this notice may not be published at least 15 days prior to the meeting. The National Park Service regrets these events, but is compelled to hold the meeting as scheduled because of the significant sacrifice re-scheduling would require of commission members who have adjusted their schedules to accommodate the proposed meeting dates.

Draft minutes of the meeting will be available for public inspection approximately 6 weeks after the meeting at the Denali National Park and Preserve Office, PO Box 9, Denali Park, Alaska 99755.

Robert L. Arnberger,
Regional Director.

[FR Doc. 02-381 Filed 1-7-02; 8:45 am]

BILLING CODE 4310-70-P